DEPARTMENT OF DEFENSE

GENERAL SERVICES ADMINISTRATION

NATIONAL AERONAUTICS AND SPACE ADMINISTRATION

48 CFR Chapter 1

[Docket No. FAR-2024-0051, Sequence No. 4]

Federal Acquisition Regulation; Federal Acquisition Circular 2024-06; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rules appearing in Federal Acquisition Circular (FAC) 2024-06, which amends the Federal Acquisition Regulation (FAR). Interested parties may obtain further information regarding these rules by referring to FAC 2024-06, which precedes this document.

DATES: July 30, 2024.

ADDRESSES: The FAC, including the SECG, is available at https://www.regulations.gov.

FOR FURTHER INFORMATION CONTACT: For clarification of content, contact the analyst whose name appears in the table below. Please cite FAC 2024-06 and the FAR Case number. For information pertaining to status or publication schedules, contact the Regulatory Secretariat Division at 202-501-4755 or GSARegSec@gsa.gov. An asterisk (*) next to a rule indicates that a regulatory flexibility analysis has been prepared.

Rules Listed in FAC 2024-06
Item | Subject | FAR Case | Analyst
* I | Reverse Auction Guidance | 2015-038 | Jackson.
* II | Protests of Orders Set Aside for Small Business | 2021-009 | Bowman.
III | Limitation of Authority Regarding Extraordinary Contractual Actions | 2023-007 | Jones.
IV | Technical Amendments

SUPPLEMENTARY INFORMATION: Summaries for each FAR rule follow. For the actual revisions and/or amendments made by these FAR rules, refer to the specific item numbers and subjects set forth in the documents following these item summaries. FAC 2024-06 amends the FAR as follows:

Item I—Reverse Auction Guidance (FAR Case 2015-038)

This final rule amends the FAR to provide guidance on the use of reverse auctions. When participating in a reverse auction, offerors see competing offerors' price(s), without disclosure of the competing offerors' identities, and have the opportunity to submit lower priced offers until the close of the auction. Agencies may use reverse auctions to obtain competitive prices for an acquisition. The rule is intended to address concerns identified in two Government Accountability Office reports and an Office of Federal Procurement Policy memorandum. The final rule provides guidance for contracting officers on the appropriate use of reverse auctions and ensures reverse auction service providers are given the Government's access, use, disclosure, and disposition requirements for Government data and Government-related data. The final rule is not expected to have a significant economic impact on a substantial number of small entities because the rule will not impact an entity's participation in a reverse auction.

Item II—Protests of Orders Set Aside for Small Business (FAR Case 2021-009)

This final rule amends the FAR to update and clarify requirements associated with size and socioeconomic status protests in connection with multiple-award contract set-asides and reserves and orders placed under multiple-award contracts, except for orders and blanket purchase agreements placed under a Federal Supply Schedule contract in accordance with FAR 8.405.

Item III—Limitation of Authority Regarding Extraordinary Contractual Actions (FAR Case 2023-007)

This final rule amends the FAR to increase the Congressional committee notification threshold at FAR 50.102-3(b)(4) to $150 million. This change will reflect the new threshold in 50 U.S.C. 1431.

Item IV—Technical Amendments

Administrative changes are made at FAR 2.101, 11.602, 17.104, 19.202-1, 19.702, 23.301, 25.403, 25.701, 52.207-6, 52.213-4, 52.223-11, 52.223-21, 52.244-5, 52.246-26, and 53.236-2.

William F. Clark,
Director, Office of Government-wide Acquisition Policy, Office of Acquisition Policy, Office of Government-wide Policy.

[FR Doc. 2024-16285 Filed 7-29-24; 8:45 am]

BILLING CODE 6820-EP-P